DEPARTMENT OF LABOR

Occupational Safety and Health Administration

Federal Advisory Council on Occupational Safety and Health; Notice of Meeting

Notice is hereby given of the date and location of the next meeting of the Federal Advisory Council on Occupational Safety and Health (FACOSH), established under Section 1-5 of Executive Order 12196 on February 6, 1980, published in the Federal Register, February 27, 1980 (45 FR 1279). FACOSH will meet on January 11, 2001, starting at 1:30 p.m., in Room N-4437 A/B/C/D of the Department of Labor Frances Perkins Building, 200 Constitution Avenue, NW., Washington, DC 20210. The meeting will adjourn at approximately 3:30 p.m., and will be open to the public. All persons wishing to attend this meeting must exhibit a photo identification to security personnel.

Agency items will include:

1. Call to Order.

2. 55th Annual Federal Safety and Health Training Conference report and plans for the 56th Annual Training Conference.

3. Federal Executive Institute training proposal.

4. Reports by Subcommittees.

5. New business.

6. Adjournment.

Written data, views or comments may be submitted, preferably with 20 copies, to the Office of Federal Agency Programs, at the address provided below. All such submissions, received by January 4, 2001, will be provided to the members of the Federal Advisory Council and will be included in the record of the meeting. Anyone wishing to make an oral presentation should notify the Office of Federal Agency Programs by the close of business January 4, 2001. the request should state the amount of time desired, the capacity in which the person will appear and a brief outline of the content of the presentation. Persons who request the opportunity to address the Federal Advisory Council may be allowed to speak, as time permits, at the discretion of the Chairperson. Individuals with disabilities who wish to attend the meeting should contact John E. Plummer at the address indicated below, if special accommodations are needed.

For additional information, please contact John E. Plummer, Director, Office of Federal Agency Programs, U.S. Department of Labor, Occupational Safety and Health Administration, Room N-3112, 200 Constitution Avenue, NW., Washington, DC 20210, telephone number (202) 693-2122. An official record of the meeting will be available for public inspection at the Office of Federal Agency Programs.

Signed at Washington, DC, this 20th day of December 2000.
Charles N. Jefress,
Assistant Secretary of Labor for Occupational Safety and Health.

[FR Doc. 00-32909 Filed 12-26-00; 8:45 am]

BILLING CODE 4510-26-M